NUCLEAR REGULATORY COMMISSION

[Docket No. 50-341]

Detroit Edison Co., Fermi 2; Notice of Withdrawal of Application for Amendment to Facility Operating License

The U.S. Nuclear Regulatory Commission (the Commission) has granted a request by the Detroit Edison Company (the licensee) to withdraw its May 23, 2003, application for an amendment to Facility Operating License No. NPF-43 issued to the licensee for operation of the Fermi 2, located in Monroe County. Notice of Consideration of Issuance of this amendment was published in the Federal Register on June 25, 2002 (67 FR 42819).

The purpose of the licensee's amendment request was to modify the Fermi 2 Technical Specifications by revising the requirements for system operability during movement of recently irradiated fuel assemblies in the secondary containment.

Subsequently, the licensee informed the staff that the amendment is no longer required. Thus, the amendment application is considered to be withdrawn by the licensee.

For further details with respect to this action, see (1) the application for amendment dated May 23, 2002, and (2) the staff's letters dated May 14, 2003, and June 3, 2003. Documents may be examined, and/or copied for a fee, at the NRC's Public Document Room PDR), located at One White Flint North, 11555 Rockville Pike (first floor), Rockville, Maryland. Publicly available records will be accessible electronically from the Agencywide Documents Access and Management Systems (ADAMS) Public Electronic Reading Room on the internet at the NRC Web site, http://www.nrc.gov/reading-rm/adams.html. Persons who do not have access to ADAMS or who encounter problems in accessing the documents located in ADAMS, should contact the NRC PDR Reference staff by telephone at 1-800-397-4209, or 301-415-4737 or by e-mail to pdr@nrc.gov.

Dated at Rockville, Maryland, this 3rd day of June 2003.
For the Nuclear Regulatory Commission.
John F. Stang,
Project Manager Section 1, Project Directorate III, Division of Licensing Project Management, Office of Nuclear Reactor Regulation.

[FR Doc. 03-14398 Filed 6-6-03; 8:45 am]

BILLING CODE 7590-01-P